DEPARTMENT OF TRANSPORTATION

Federal Aviation Administration

14 CFR Part 39

[Docket No. FAA-2016-9067; Product Identifier 2016-NM-043-AD; Amendment 39-19202; AD 2018-04-07]

RIN 2120-AA64

Airworthiness Directives; The Boeing Company Airplanes

AGENCY: Federal Aviation Administration (FAA), DOT.

ACTION: Final rule.

SUMMARY: We are adopting a new airworthiness directive (AD) for all The Boeing Company Model 747-100, 747-100B, 747-100B SUD, 747-200B, 747-200C, 747-200F, 747-300, 747-400, 747-400D, 747-400F, 747SR, and 747SP series airplanes. This AD was prompted by a report of incidents involving fatigue cracking in transport category airplanes that are approaching or have exceeded their design service objective and a structural reevaluation by the manufacturer that identified additional structural elements that qualify as structural significant items (SSIs). This AD requires revising the maintenance or inspection program, as applicable, to include inspections that will give no less than the required damage tolerance rating (DTR) for certain SSI, performing repetitive inspections to detect cracks of all SSIs, and repairing cracked structures if necessary. Additionally, this AD requires all cracks involving an SSI or related structure in close vicinity to the SSI to be reported to Boeing. We are issuing this AD to address the unsafe condition on these products.

DATES: This AD is effective March 30, 2018.

The Director of the Federal Register approved the incorporation by reference of certain publications listed in this AD as of March 30, 2018.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this referenced service information at the FAA, Transport Standards Branch, 1601 Lind Avenue SW, Renton, WA. For information on the availability of this material at the FAA, call 425-227-1221. It is also available on the internet at http://www.regulations.gov by searching for and locating Docket No. FAA-2016-9067.

Examining the AD Docket

You may examine the AD docket on the internet at http://www.regulations.gov by searching for and locating Docket No. FAA-2016-9067; or in person at Docket Operations between 9 a.m. and 5 p.m., Monday through Friday, except Federal holidays. The AD docket contains this final rule, the regulatory evaluation, any comments received, and other information. The address for Docket Operations (phone: 800-647-5527) is Docket Operations, U.S. Department of Transportation, Docket Operations, M-30, West Building Ground Floor, Room W12-140, 1200 New Jersey Avenue SE, Washington, DC 20590.

FOR FURTHER INFORMATION CONTACT: Bill Ashforth, Aerospace Engineer, Airframe Section, FAA, Seattle ACO Branch, 1601 Lind Avenue SW, Renton, WA 98057-3356; phone: 425-917-6432; fax: 425-917-6590; email: bill.ashforth@faa.gov.

SUPPLEMENTARY INFORMATION:

Discussion

We issued a notice of proposed rulemaking (NPRM) to amend 14 CFR part 39 by adding an AD that would apply to all The Boeing Company Model 747-100, 747-100B, 747-100B SUD, 747-200B, 747-200C, 747-200F, 747-300, 747-400, 747-400D, 747-400F, 747SR, and 747SP series airplanes. The NPRM published in the Federal Register on September 8, 2016 (81 FR 62031). The NPRM was prompted by a report of incidents involving fatigue cracking in transport category airplanes that are approaching or have exceeded their design service objective and a structural reevaluation by the manufacturer that identified additional structural elements that qualify as SSIs. The NPRM proposed to require revising the maintenance or inspection program, as applicable, to include inspections that will give no less than the required DTR for certain SSIs, and repairing any cracked structure. The NPRM proposed to require inspections to detect cracks of all SSI structure, and repair if necessary.

We issued a supplemental notice of proposed rulemaking (SNPRM) to amend 14 CFR part 39 by adding an AD that would apply to all The Boeing Company Model 747-100, 747-100B, 747-100B SUD, 747-200B, 747-200C, 747-200F, 747-300, 747-400, 747-400D, 747-400F, 747SR, and 747SP series airplanes. The SNPRM published in the Federal Register on November 9, 2017 (82 FR 52015). The SNPRM revised the NPRM by proposing to require reporting in order to ensure the continuing structural airworthiness of The Boeing Company Model 747-100, 747-100B, 747-100B SUD, 747-200B, 747-200C, 747-200F, 747-300, 747-400, 747-400D, 747-400F, 747SR, and 747SP series airplanes with a high number of flight cycles. All cracks involving an SSI or related structure in close vicinity to the SSI must be reported to Boeing in order to evaluate the effectiveness of the supplemental structural inspections.

We are issuing this AD to ensure the continued structural integrity of all The Boeing Company Model 747-100, 747-100B, 747-100B SUD, 747-200B, 747-200C, 747-200F, 747-300, 747-400, 747-400D, 747-400F, 747SR, and 747SP series airplanes.

Comments

We gave the public the opportunity to participate in developing this final rule. We have considered the comments received. The Boeing Company, British Airways, and United Airlines supported the SNPRM.

Conclusion

We reviewed the relevant data, considered the comments received, and determined that air safety and the public interest require adopting this final rule as proposed, except for minor editorial changes. We have determined that these minor changes:

• Are consistent with the intent that was proposed in the SNPRM for addressing the unsafe condition; and

• Do not add any additional burden upon the public than was already proposed in the SNPRM.

Related Service Information Under 1 CFR Part 51

We reviewed Boeing Document D6-35022, “Supplemental Structural Inspection Document for Model 747 Airplanes,” Revision H, dated September 2013. This service information describes procedures for inspections to detect cracks of all structures identified as SSIs, and includes six new SSIs since the last revision.

We also reviewed Boeing Document D6-35022-1, “747-400 LCF Supplemental Structural Inspection Document—Appendix A,” dated November 2015. This service information describes procedures for inspections of the wings, fuselage, and empennage SSIs for Model 747-400 LCF airplanes.

This service information is reasonably available because the interested parties have access to it through their normal course of business or by the means identified in the ADDRESSES section.

Costs of Compliance

We estimate that this AD affects 118 airplanes of U.S. registry. We estimate the following costs to comply with this AD:

Estimated Costs
Action | Labor cost | Parts cost | Cost per product | Cost on U.S. operators
Revision of maintenance or inspection program | 1 work-hour × $85 per hour = $85 | $0 | $85 | $10,030

We have not specified cost estimates for the inspection and repair specified in this AD. Compliance with this AD constitutes a method of compliance with the FAA aging airplane safety final rule (AASFR) (70 FR 5518, February 2, 2005) for certain baseline structure of Model 747-100, 747-100B, 747-100B SUD, 747-200B, 747-200C, 747-200F, 747-300, 747-400, 747-400D, 747-400F, 747SR, and 747SP series airplanes. The AASFR requires certain operators to incorporate damage tolerance inspections into their maintenance inspection programs. These requirements are described in 14 CFR 121.1109(c)(1) and 14 CFR 129.109(b)(1). Accomplishment of the actions specified in this AD will meet the requirements of these regulations for certain baseline structure. The costs for accomplishing the inspection and repair portions of this AD were accounted for in the regulatory evaluation of the AASFR for airplanes affected by that rule. For airplanes not affected by the AASFR, we have received no definitive data that would enable us to provide cost estimates for the inspection or repair portions of this AD.

We estimate the following costs to do any necessary reporting that would be required based on the results of the inspections in the maintenance inspection program. We have no way of determining the number of aircraft that might need this action:

On-Condition Costs
Action | Labor cost | Parts cost | Cost per product
Reporting | 1 work-hour × $85 per hour = $85 | $0 | $85 per inspection cycle.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-04-07 The Boeing Company: Amendment 39-19202; Docket No. FAA-2016-9067; Product Identifier 2016-NM-043-AD.

(a) Effective Date

This AD is effective March 30, 2018.

(b) Affected ADs

This AD affects AD 2004-07-22 R1, Amendment 39-15326 (73 FR 1052, January 7, 2008; corrected February 14, 2008 (73 FR 8589)) (“AD 2004-07-22 R1”).

(c) Applicability

This AD applies to all The Boeing Company Model 747-100, 747-100B, 747-100B SUD, 747-200B, 747-200C, 747-200F, 747-300, 747-400, 747-400D, 747-400F, 747SR, and 747SP series airplanes, certificated in any category.

Note 1 to paragraph (c) of this AD: A Model 747-400 LCF airplane is a Model 747-400 series airplane that has been modified from a passenger airplane to a freighter configuration, as specified in Boeing Service Bulletin 747-00-2084.

(d) Subject

Air Transport Association (ATA) of America Code 53, Fuselage; 54, Nacelles/Pylons; 55, Stabilizers; 57, Wings.

(e) Unsafe Condition

This AD was prompted by a report of incidents involving fatigue cracking in transport category airplanes that are approaching or have exceeded their design service objective, and a structural reevaluation by the manufacturer that identified additional structural elements that qualify as structural significant items (SSIs). We are issuing this AD to ensure the continued structural integrity of all The Boeing Company Model 747-100, 747-100B, 747-100B SUD, 747-200B, 747-200C, 747-200F, 747-300, 747-400, 747-400D, 747-400F, 747SR, and 747SP series airplanes.

(f) Compliance

Comply with this AD within the compliance times specified, unless already done.

(g) Definition of SSI

For the purposes of this AD, an SSI is defined as a principal structural element (PSE). A PSE is a structural element that contributes significantly to the carrying of flight, ground, or pressurization loads, and whose integrity is essential in maintaining the overall structural integrity of the airplane.

(h) Maintenance or Inspection Program Revision for All Airplanes

Prior to reaching the compliance times specified in paragraph (i)(1)(i), (i)(2)(i), (j)(1)(i), or (j)(2)(i) of this AD, as applicable, or within 12 months after the effective date of this AD, whichever occurs later: Incorporate a revision into the maintenance or inspection program, as applicable, that provides no less than the required damage tolerance rating (DTR) for each SSI listed in the applicable service information specified in paragraph (h)(1) or (h)(2) of this AD. The revision to the maintenance or inspection program must include, and must be implemented in accordance with, the procedures in Section 5.0, “Damage Tolerance Rating (DTR) System Application,” and Section 6.0, “SSI Discrepancy Reporting” of Boeing Document D6-35022, “Supplemental Structural Inspection Document for Model 747 Airplanes,” Revision H, dated September 2013; and Boeing Document D6-35022-1, “747-400 LCF Supplemental Structural Inspection Document—Appendix A,” dated November 2015; as applicable. Accomplishing the revision required by this paragraph terminates the actions required by paragraphs (f), (g), and (h) of AD 2004-07-22 R1.

(1) For all airplanes except Model 747-400 LCF airplanes: SSIs listed in Boeing Document D6-35022, “Supplemental Structural Inspection Document for Model 747 Airplanes,” Revision H, dated September 2013.

(2) For Model 747-400 LCF airplanes: SSIs listed in Boeing Document D6-35022, “Supplemental Structural Inspection Document for Model 747 Airplanes,” Revision H, dated September 2013; and SSIs listed in Boeing Document D6-35022-1, “747-400 LCF Supplemental Structural Inspection Document—Appendix A,” dated November 2015. For SSIs listed in both Boeing Document D6-35022-1, “747-400 LCF Supplemental Structural Inspection Document—Appendix A,” dated November 2015; and Boeing Document D6-35022, “Supplemental Structural Inspection Document for Model 747 Airplanes,” Revision H, dated September 2013: Incorporate the SSIs listed in Boeing Document D6-35022-1, “747-400 LCF Supplemental Structural Inspection Document—Appendix A,” dated November 2015.

(i) Inspections for All Airplanes Except Model 747-400 LCF Airplanes

For all airplanes except Model 747-400 LCF airplanes: Perform inspections to detect cracks of all structure identified in Boeing Document D6-35022, “Supplemental Structural Inspection Document for Model 747 Airplanes,” Revision H, dated September 2013, at the times specified in paragraph (i)(1), (i)(2), or (i)(3) of this AD, as applicable, except as required by paragraph (l) of this AD. Once the initial inspection has been performed, in order to remain in compliance with the maintenance or inspection program, as required by paragraph (h) of this AD, repetitive inspections are required at the intervals specified in Boeing Document D6-35022, “Supplemental Structural Inspection Document for Model 747 Airplanes,” Revision H, dated September 2013. Doing an inspection required by this paragraph terminates the corresponding inspection required by paragraph (i) of AD 2004-07-22 R1.

(1) For wing structure, except as provided by paragraph (i)(3) of this AD: Inspect at the times specified in paragraph (i)(1)(i) or (i)(1)(ii) of this AD, whichever occurs later.

(i) Within the applicable compliance time specified in paragraph (i)(1)(i)(A) or (i)(1)(i)(B) of this AD.

(A) For all Model 747-100, 747-100B, 747-100B SUD, 747-200B, 747-200C, 747-200F, 747-300, 747SR, and 747SP series airplanes: Prior to the accumulation of 20,000 total flight cycles or 100,000 total flight hours, whichever occurs first.

(B) For all Model 747-400, 747-400D, and 747-400F series airplanes: Prior to the accumulation of 20,000 total flight cycles or 115,000 total flight hours, whichever occurs first.

(ii) Within 1,000 flight cycles measured from 12 months after the effective date of this AD.

(2) For all structure other than wing structure, except as provided by paragraph (i)(3) of this AD: At the time specified in paragraph (i)(2)(i) or (i)(2)(ii) of this AD, whichever occurs later.

(i) Prior to the accumulation of 20,000 total flight cycles.

(ii) Within 1,000 flight cycles measured from 12 months after the effective date of this AD.

(3) For any portion of an SSI that has been replaced with new structure: Inspect at the later of the times specified in paragraphs (i)(3)(i) and (i)(3)(ii) of this AD.

(i) At the time specified in paragraph (i)(1) or (i)(2) of this AD, as applicable.

(ii) Within 10,000 flight cycles after the replacement of the part with a new part.

(j) Inspections for Model 747-400 LCF Airplanes

For Model 747-400 LCF airplanes: Perform inspections to detect cracks of all structure identified in Boeing Document D6-35022, “Supplemental Structural Inspection Document for Model 747 Airplanes,” Revision H, dated September 2013; and Boeing Document D6-35022-1, “747-400 LCF Supplemental Structural Inspection Document—Appendix A,” dated November 2015; at the times specified in paragraph (j)(1) or (j)(2) of this AD, as applicable, except as required by paragraph (l) of this AD. Once the initial inspection has been performed, in order to remain in compliance with the maintenance or inspection program, as required by paragraph (h) of this AD, repetitive inspections are required at the intervals specified in Boeing Document D6-35022, “Supplemental Structural Inspection Document for Model 747 Airplanes,” Revision H, dated September 2013; and Boeing Document D6-35022-1, “747-400 LCF Supplemental Structural Inspection Document—Appendix A,” dated November 2015. For SSIs listed in both Boeing Document D6-35022, “Supplemental Structural Inspection Document for Model 747 Airplanes,” Revision H, dated September 2013; and Boeing Document D6-35022-1, “747-400 LCF Supplemental Structural Inspection Document—Appendix A,” dated November 2015; the SSIs listed in Boeing Document D6-35022-1, “747-400 LCF Supplemental Structural Inspection Document—Appendix A,” dated November 2015, take precedence (i.e., the SSIs in the latter document prevail). Doing an inspection required by this paragraph terminates the corresponding inspection required by paragraph (i) of AD 2004-07-22 R1.

(1) For wing structure: Inspect at the times specified in paragraph (j)(1)(i) or (j)(1)(ii) of this AD, whichever occurs later.

(i) Prior to the accumulation of 20,000 total flight cycles or 115,000 total flight hours, whichever occurs first.

(ii) Within 1,000 flight cycles measured from 12 months after the effective date of this AD.

(2) For all structure other than wing structure: At the time specified in paragraph (j)(2)(i) or (j)(2)(ii) of this AD, whichever occurs later.

(i) At the earlier of the times specified in paragraphs (j)(2)(i)(A) and (j)(2)(i)(B) of this AD.

(A) Prior to the accumulation of 20,000 total flight cycles.

(B) Within the applicable initial compliance time specified in Boeing Document D6-35022, “Supplemental Structural Inspection Document for Model 747 Airplanes,” Revision H, dated September 2013; and Boeing Document D6-35022-1, “747-400 LCF Supplemental Structural Inspection Document—Appendix A,” dated November 2015. For SSIs are listed in both Boeing Document D6-35022, “Supplemental Structural Inspection Document for Model 747 Airplanes,” Revision H, dated September 2013; and Boeing Document D6-35022-1, “747-400 LCF Supplemental Structural Inspection Document—Appendix A,” dated November 2015; the SSIs listed in Boeing Document D6-35022-1, “747-400 LCF Supplemental Structural Inspection Document—Appendix A,” dated November 2015, take precedence (i.e., the SSIs in the latter document prevail).

(ii) Within 1,000 flight cycles measured from 12 months after the effective date of this AD.

(k) Repair

If any cracked structure is found during any inspection required by paragraph (i) or (j) of this AD, repair before further flight using an FAA-approved method.

(l) Compliance Time Clarification

For compliance times identified in paragraphs (i) and (j) of this AD that specify total flight cycles and total flight hours, and the SSI is a removable structural component, those compliance times must be measured on the SSI since its first installation on any airplane, regardless of what the airframe as a whole has accumulated. If the total flight cycles and total flight hours on the SSI are not available or cannot be determined, use the airframe total flight cycles and total flight hours for the compliance times identified in paragraphs (i) and (j) of this AD.

(m) No Alternative Inspections and Inspection Intervals

After accomplishing the revision required by paragraph (h) of this AD, no alternative inspections or inspection intervals may be used unless the alternative inspection or inspection interval is approved as an alternative method of compliance (AMOC) in accordance with the procedures specified in paragraph (p) of this AD.

(n) Terminating Action for AD 2004-07-22 R1

Accomplishing the revision required by paragraph (h) of this AD and all of the initial inspections required by paragraph (i) or (j) of this AD, as applicable, terminates all requirements of AD 2004-07-22 R1.

(o) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(p) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (q) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, to make those findings. To be approved, the repair method, modification deviation, or alteration deviation must meet the certification basis of the airplane, and the approval must specifically refer to this AD.

(4) AMOCs approved for AD 2004-07-22 R1 are approved as AMOCs for the corresponding provisions of paragraphs (h), (i), (j), and (k) of this AD for the SSIs identified in the AMOC, except for any SSI that has an expanded inspection area identified in Boeing Document D6-35022, “Supplemental Structural Inspection Document for Model 747 Airplanes,” Revision H, dated September 2013; or Boeing Document D6-35022-1, “747-400 LCF Supplemental Structural Inspection Document—Appendix A,” dated November 2015, as applicable.

(q) Related Information

For more information about this AD, contact Bill Ashforth, Aerospace Engineer, Airframe Section, FAA, Seattle ACO Branch, 1601 Lind Avenue SW, Renton, WA 98057-3356; phone: 425-917-6432; fax: 425-917-6590; email: bill.ashforth@faa.gov.

(r) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Document D6-35022, “Supplemental Structural Inspection Document for Model 747 Airplanes,” Revision H, dated September 2013.

(ii) Boeing Document D6-35022-1, “747-400 LCF Supplemental Structural Inspection Document—Appendix A,” dated November 2015.

(3) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Transport Standards Branch, 1601 Lind Avenue SW, Renton, WA. For information on the availability of this material at the FAA, call 425-227-1221.

(4) You may view this service information at the FAA, Transport Standards Branch, 1601 Lind Avenue SW, Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 9, 2018.
Michael Kaszycki,
Acting Director, System Oversight Division, Aircraft Certification Service.

[FR Doc. 2018-03429 Filed 2-22-18; 8:45 am]

BILLING CODE 4910-13-P